DEPARTMENT OF TRANSPORTATION

Federal Highway Administration

Environmental Impact Statement: Cameron and Willacy Counties, TX

AGENCY: Federal Highway Administration (FHWA), DOT.

ACTION: Notice of Intent.

SUMMARY: The FHWA is issuing this notice to advise the public that an environmental impact statement will be prepared for a proposed second access to South Padre Island, in Cameron or Willacy Counties, Texas.

FOR FURTHER INFORMATION CONTACT: John Mack, District Engineer, Federal Highway Administration, 300 East 8th Street, Austin, Texas, Telephone: (512) 536-5960.

SUPPLEMENTARY INFORMATION: The FHWA, in cooperation with the Texas Department of Transportation, will prepare an environmental impact statement (EIS) proposing to provide a second access to and from South Padre Island. Currently, the Queen Isabella Causeway is the only means of vehicular access to and from the island. The purpose of the proposed project is to provide an alternate route to and from South Padre. Residents and visitors need increased vehicular mobility to enhance their health, safety, and security. This need is heightened during constrained or interrupted traffic flow conditions on the Queen Isabella Causeway resulting from hurricane evacuations, incidents involving the bridge, lane closures associated with bridge repairs and during peak travel periods such as Spring Break and the summer vacation season.

The EIS will examine or evaluate viable alternatives for providing access between the mainland and the island. The project study area includes South Padre Island and the mainland in Cameron and Willacy Counties. Transportation alternatives include taking no action (the no-build alternative), Transportation System Management (TSM), ferrying systems and construction of a second causeway. The environmental study will also include discussions of the social, economic and environmental effects of the proposed project.

A public scoping meeting will be held on August 5, 2003 at 6 p.m. at the South Padre Island Convention Center. This will be the first in a series of meetings to solicit public comments on the proposed action. In addition, a public hearing will be held. Public notice will be given about the time and place of the meetings and hearing. The draft EIS will be available for the public and relevant agencies for comment before the public hearing.

Letters describing the proposed action and soliciting comments will be sent to appropriate Federal, State, and local agencies, and to private organizations and citizens who have previously expressed or are known to have interest in this proposal. A series of public scoping meetings will be held in the area. In addition, a public hearing will be held. Public notice will be given with the time and place of the meetings and hearing. The draft EIS will be available for public and agency review and comment prior to the public hearing.

To ensure that the full range of issues related to this proposed action are addressed and all significant issues identified, comments, and suggestions are invited from all interested parties. Comments or questions concerning this proposed action and the EIS should be directed to the FHWA at the address provided above.

Issued on: June 30, 2003.
(Catalog of Federal Domestic Assistance Program Number 20.205, Highway Planning and Construction. The regulations implementing Executive order 12372 regarding intergovernmental consultation on Federal programs and activities apply to this program.)
John R. Mack,
District Engineer, Austin, Texas.

[FR Doc. 03-17539 Filed 7-10-03; 8:45 am]

BILLING CODE 4910-22-M